DEPARTMENT OF STATE

[Public Notice 4952]

30-Day Notice of Proposed Information Collection: Form DS-4071, Export Declaration of Defense Technical Data or Services, OMB 1405-0157

ACTION: Notice of request for public comment and submission to OMB of proposed collection of information.

SUMMARY: The Department of State has submitted the following information collection request to the Office of Management and Budget (OMB) for approval in accordance with the Paperwork Reduction Act of 1995.

• Title of Information Collection: Export Declaration of Defense Technical Data or Services.

• OMB Control Number: 1405-0157.

• Type of Request: Extension of a Currently Approved Collection.

• Originating Office: PM/DDTC.

• Form Number: DS-4071.

• Respondents: Business organizations.

• Estimated Number of Respondents: 2,000.

• Estimated Number of Responses: 10,000.

• Average Hours per Response: ¼ hour (15 minutes).

• Total Estimated Burden: 2,500 hours.

• Frequency: On occasion.

• Obligation To Respond: Mandatory.

DATES: Comments may be submitted to the Office of Management and Budget (OMB) for up to 30 days from February 7, 2005.

ADDRESSES: Direct Comments and questions to Alex Hunt, the State Department Desk Officer in Office of Information and Regulatory Affairs at the Office of Management and Budget (OMB), who may be reached at (202) 395-7860. You may submit comments by any of the following methods:

• E-mail: ahunt@omb.eop.gov. You must include the DS form number (if applicable), information collection title, and OMB control number in the subject line of your message.

• Hand Delivery or Courier: OIRA State Department Desk Officer, Office of Management and Budget, 725 17th Street, NW., Washington, DC 20503.

• Fax: (202) 395-6974.

FOR FURTHER INFORMATION CONTACT: Copies of the proposed information collection and supporting documents may be obtained from Angelo A. Chang, Acting Director, Office of Defense Trade Controls Management, Directorate of Defense Trade Controls, Bureau of Political-Military Affairs, SA-1, 12th Floor, Room H1200, Washington, DC 20522-0112 (202) 663-2830. E-mail: ChangAA@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: Actual exports of defense technical data and defense services will be electronically reported directly to the Directorate of Defense Trade Controls (DDTC). DDTC administers the International Traffic in Arms Regulations and section 38 of the Arms Export Act (AECA). The actual exports must be in accordance with requirements of the ITAR and section 38 of the AECA. DDTC will monitor the information to ensure there is proper control of the transfer of sensitive U.S. technology.

Methodology: The exporter will electronically report directly to DDTC the actual export of defense technical data and defense services using DS-4071. DS-4071 will be available on DDTC's Web site (http://www.pmdtc.org).

Dated: December 16, 2004.
Gregory M. Suchan,
Deputy Assistant Secretary for Defense Trade Controls, Bureau of Political-Military Affairs, Department of State.

[FR Doc. 05-274 Filed 1-5-05; 8:45 am]

BILLING CODE 4710-25-P